DEPARTMENT OF HOMELAND SECURITY

Office of the Secretary; Published Privacy Impact Assessments on the Web

AGENCY: Privacy Office, DHS.

ACTION: Notice of Publication of Privacy Impact Assessments.

SUMMARY: The Privacy Office of the Department of Homeland Security is making available four Privacy Impact Assessments on various programs and systems in the Department. These assessments were approved and published on the Privacy Office's Web site between January 1, 2009, and March 31, 2009.

DATES: The Privacy Impact Assessments will be available on the DHS Web site until July 6, 2009, after which they may be obtained by contacting the DHS Privacy Office (contact information below).

FOR FURTHER INFORMATION CONTACT: Mary Ellen Callahan, Chief Privacy Officer, Department of Homeland Security, Washington, DC 20528, or e-mail: pia@dhs.gov.

SUPPLEMENTARY INFORMATION: Between January 1, 2009, and March 31, 2009, the Chief Privacy Officer of the Department of Homeland Security (DHS) approved and published four Privacy Impact Assessments (PIAs) on the DHS Privacy Office Web site, http://www.dhs.gov/privacy, under the link for “Privacy Impact Assessments.” These PIAs cover four separate DHS programs. Below is a short summary of those programs, indicating the DHS component responsible for the system, and the date on which the PIA was approved. Additional information can be found on the Web site or by contacting the Privacy Office.

System: Correspondence Handling and Management Planning System.

Component: U.S. Citizenship and Immigration Services.

Date of approval: January 13, 2009.

The U.S. Citizenship and Immigration Service (USCIS), Texas Service Center developed the Correspondence Handling and Management Planning System (CHAMPS). The CHAMPS system is designed to facilitate workflow management, production evaluation, and time and attendance functions. USCIS conducted this PIA because CHAMPS collects and uses personally identifiable information (PII).

System: Directory Services and Email System.

Component: DHS Wide.

Date of approval: January 14, 2009.

The U.S. Coast Guard manages and operates the Directory Services Electronic Mail System (DSES). DSES currently handles all e-mail traffic in, out, and between DHS, its Components, and the Internet, and provides a directory of users' official contact information. This PIA was conducted to assess the risks associated with the processing, storage, and transmission of PII within the DSES system.

System: Maryland 3.

Component: Transportation Security Administration.

Date of approval: February 20, 2009.

The Transportation Security Administration (TSA) conducts name-based Security Threat Assessments (STA) and fingerprint-based Criminal History Records Checks (CHRCs) on pilots who operate aircraft and apply for privileges to fly to or from the three General Aviation airports in the Washington, DC restricted flight zones (Potomac Airfield, Washington Executive/Hyde Field, and College Park Airport), otherwise known as the Maryland Three (MD-3) program, and for the Airport Security Coordinator (ASC) at a MD-3 airport. For the STA process, TSA compares the biographical information of these pilots and ASCs, hereafter referred to as individuals, against Federal terrorist, immigration, and law enforcement databases. For the CHRC, TSA forwards the fingerprints to the Federal Bureau of Investigation, which conducts fingerprint-based CHRCs on individuals.

System: Department of Homeland Security General Contact List.

Component: DHS Wide.

Date of approval: March 27, 2009.

Many DHS operations and projects collect a minimal amount of contact information in order to distribute information and perform various other administrative tasks. Department Headquarters conducted this PIA because contact lists contain PII. The Department added the following systems to this PIA:

• National Protection and Programs Directorate Vehicle-Borne Explosive Device (VBIED) Training.

• U.S. Coast Guard 2009 World Maritime Day Parallel Event.

• Transportation Security Administration Inquiry Management System (IMS).

• Science and Technology Project Execution System.

• Science and Technology Multi-Band Radio Project.

• United States Citizenship and Immigration Services Teachers of English to Speakers of Other Languages (TESOL) Conference Booth Follow Up List.

• DHS Sunflower Asset Management System (SAMS).

• United States Citizenship and Immigration Services Customer Service Portal Alert by Mail.

• United States Citizenship and Immigration Services Customer Service Portal Forms by Mail.

• U.S. Coast Guard Navigation Systems Information Dissemination Network (NSIDN).

• U.S. Coast Guard List Server (CGLS).

Dated: April 28, 2009.
Mary Ellen Callahan,
Chief Privacy Officer, Department of Homeland Security.

[FR Doc. E9-10261 Filed 5-4-09; 8:45 am]

BILLING CODE 9110-9L-P